DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, Department of Commerce, Washington, DC 20230. Applications may be examined between 8:30 A.M. and 5 P.M. in Suite 4100W, Department of Commerce, Franklin Court Building, 1099 14th Street, NW., Washington, DC.

Docket Number: 02-036. Applicant: University of California, Department of Chemistry, 607 Charles E. Young Dr., East, Los Angeles, CA 90095. Instrument: Low Temperature Scanning Tunneling Microscope System, Model LT-STM 1. Manufacturer: VTS Createc GmbH, Germany. Intended Use: The instrument is intended to be used to determine the molecular structure and the local electronic, mechanical and chemical properties of individual molecules to make nanostructures for basic research in nanoscience. Application accepted by Commissioner of Customs: August 2, 2002.

Docket Number: 02-038. Applicant: Department of Agriculture, Biosciences Research Laboratory, 1605 Albrecht Boulevard, Fargo, ND 58105. Instrument: Q Pix Colony Picker System, Model QPix2. Manufacturer: Genetex Ltd., United Kingdom. Intended Use: The instrument is intended to be used for genotyping cereal crops, including wheat, barley and oats to develop a better understanding of their genetics and to incorporate new and useful genes into the crops in order to provide farmers with crops better able to withstand various stresses and to provide consumers with more healthy and nutritious food. Application accepted by Commissioner of Customs: August 15, 2002.

Gerald A. Zerdy,
Program Manager, Statutory Import Programs Staff.

[FR Doc. 02-21964 Filed 8-27-02; 8:45 am]

BILLING CODE 3510-DS-P